DEPARTMENT OF HOUSING AND URBAN DEVELOPMENT

[Docket No. FR-5117-N-68]

Notice of Submission of Proposed Information Collection to OMB; Humidity Monitoring Survey

AGENCY: Office of the Chief Information Officer, HUD.

ACTION: Notice.

SUMMARY: The proposed information collection requirement described below has been submitted to the Office of Management and Budget (OMB) for review, as required by the Paperwork Reduction Act. The Department is soliciting public comments on the subject proposal.

The purpose of this survey is: (1) Collect moisture load data to support research to better understand the impact of indoor moisture on the durability of homes: (2) Support the development of design criteria, such as ASHRAE Standard 160P, that will minimize durability problems associated with high indoor moisture levels; and (3) Investigate the influence of the interior and exterior conditions on the indoor moisture level of a typical single family home.

DATES: Comments Due Date: September 21, 2007.

ADDRESSES: Interested persons are invited to submit comments regarding this proposal. Comments should refer to the proposal by name and/or OMB approval Number (2528-NEW) and should be sent to: HUD Desk Officer, Office of Management and Budget, New Executive Office Building, Washington, DC 20503; fax: 202-395-6974.

FOR FURTHER INFORMATION CONTACT: Lillian Deitzer, Departmental Reports Management Officer, QDAM, Department of Housing and Urban Development, 451 Seventh Street, SW., Washington, DC 20410; e-mail Lillian_L._Deitzer@HUD.gov or telephone (202) 708-2374. This is not a toll-free number. Copies of available documents submitted to OMB may be obtained from Ms. Deitzer or from HUD's Web site at http://www5.hud.gov:63001/po/i/icbts/collectionsearch.cfm.

SUPPLEMENTARY INFORMATION: This notice informs the public that the Department of Housing and Urban Development has submitted to OMB a request for approval of the information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Humidity Monitoring Survey.

OMB Approval Number: 2528-New.

Form Numbers: None.

Description of the Need for the Information and Its Proposed Use: The purpose of this survey is: (1) Collect moisture load data to support research to better understand the impact of indoor moisture on the durability of homes; (2) Support the development of design criteria, such as ASHRAE Standard 160P, that will minimize durability problems associated with high indoor moisture levels; and (3) Investigate the influence of the interior and exterior conditions on the indoor moisture level of a typical single family home.

Frequency of Submission: On Occasion, Annually.

Reporting Burden | Number of respondents | Annual responses | X | Hours per response | = | Burden hours
| 70 | 3 |  | 2 |  | 420

Total Estimated Burden Hours: 420.

Status: New collection.

Authority: Section 3507 of the Paperwork Reduction Act of 1995, 44 U.S.C. 35, as amended.

Dated: August 15, 2007.
Lillian L. Deitzer,
Departmental Paperwork Reduction Act Officer, Office of the Chief Information Officer.

[FR Doc. E7-16483 Filed 8-21-07; 8:45 am]

BILLING CODE 4210-67-P